NATIONAL CREDIT UNION ADMINISTRATION

Notice of Meeting

Time and Date: 10 a.m., Thursday, October 25, 2007.

Place: Board Room, 7th Floor, Room 7047, 1775 Duke Street, Alexandria, VA 22314-3428.

Status: Open.

Matters to be Considered: 1. Quarterly Insurance Fund Report.

2. Board Briefing: Part 717 of NCUA's Rules and Regulations, Interagency Final Rule and Guidelines on Identity Theft Red Flags and Address Discrepancies.

3. Board Briefing: Part 717 of NCUA's Rules and Regulations, Interagency Final Rule on Affiliate Marketing.

4. Final Rule: Section 701.2 of NCUA's Rules and Regulations, Federal Credit Union Bylaws.

Recess: 11 a.m.

Time and Date: 11:15 a.m., Thursday, October 25, 2007.

Place: Board Room, 7th Floor, Room 7047, 1775 Duke Street, Alexandria, VA 22314-3428.

Status: Closed.

Matters to be Considered: 1. One (1) Merger Application under Parts 704 and 708b of NCUA's Rules and Regulations. Closed pursuant to Exemption (8).

2. One (1) Insurance Appeal. Closed pursuant to Exemption (6).

FOR FURTHER INFORMATION CONTACT: Mary Rupp, Secretary of the Board, Telephone: 703-518-6304.

Mary Rupp,
Secretary of the Board.

[FR Doc. 07-5230 Filed 10-18-07; 3:18 pm]

BILLING CODE 7535-01-M